FEDERAL COMMUNICATIONS COMMISSION

Notice of Public Information Collection(s) Being Reviewed by the Federal Communications Commission, Comments Requested

October 6, 2010.

SUMMARY: The Federal Communications Commission, as part of its continuing effort to reduce paperwork burden invites the general public and other Federal agencies to take this opportunity to comment on the following information collection(s), as required by the Paperwork Reduction Act (PRA) of 1995, 44 U.S.C. 3501-3520 Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before December 14, 2010. If you anticipate that you will be submitting PRA comments, but find it difficult to do so within the period of time allowed by this notice, you should advise the FCC contact listed below as soon as possible.

ADDRESSES: Direct all PRA comments to Nicholas A. Fraser, Office of Management and Budget, via fax at 202-395-5167 or via Internet at Nicholas_A._Fraser@omb.eop.gov and to the Federal Communications Commission. To submit your PRA comments by e-mail send them to: PRA@fcc.gov.

FOR FURTHER INFORMATION CONTACT: For additional information, contact Judith B. Herman at 202-418-0214 or via the Internet at Judith-B.Herman@fcc.gov.

SUPPLEMENTARY INFORMATION: OMB Control Number: 3060-1139.

Title: Residential Fixed Broadband Services Testing and Measurement.

Form No.: N/A.

Type of Review: Extension of a currently approved collection.

Respondents: Individuals or households; and business or other for-profit.

Number of Respondents: 11,016 respondents; 11,016 responses.

Estimated Time per Response: 1 hour for respondents based on a 10 minute initial sign-up for the panel, 30 minutes to connect and install the hardware appliance, and two 10-minute validation contacts to be conducted by the vendor over the course of the study period. The 16 ISP partners participating in the study is estimated at 200 hours per response per partner for all participation activities.

Frequency of Response: Biennial reporting requirement and third party disclosure requirement.

Obligation to Respond: Voluntary. Statutory authority for this information collection is contained in the Broadband Data Improvement Act of 2008, Public Law 110-385, Stat 4096 § 103(c)(1).

Total Annual Burden: 14,200 hours.

Total Annual Cost: N/A.

Privacy Act Impact Assessment: This information collection affects individuals or households. However, the collection of personally identifiable information (PII) is not being collected, made available or accessible by the Commission but instead by third parties including SamKnows, a third party contractor, and ISP Partners.

Nature and Extent of Confidentiality: No personally identifying information (PII) will be transmitted to the Commission from the contractor as a matter of vendor policy. SamKnows maintains a series of administrative, technical, and physical safeguards to protect against the transmission of personally identifying information. At point of registration, individuals will be given full disclosure in a “privacy statement” highlighting what information will be collected. ISP Partners will receive personally identifying information about volunteers to confirm the validity of the information against their subscription records, but will be bound by a non-disclosure agreement that will maintain various administrative, technical and physical safeguards to protect the information and limit its use. ISP Partners providing support to the testing program will likewise be bound to the same series of administrative, technical and physical safeguards developed by SamKnows. In addition all third parties supporting the program directly will be bound by a “Code of Conduct” to ensure all participate and act in good faith.

Needs and Uses: The Commission will submit this information collection to the Office of Management and Budget (OMB) after this 60-day comment period in order to obtain the full three-year clearance from them. The Commission had requested emergency processing for this revised collection on September 2, 2010. The Commission received OMB approval on October 4, 2010. Emergency OMB approvals are only granted for six months. Therefore, the Commission is now requesting approval of an extension of this information collection (no change in the reporting requirement or third party disclosure requirements) to keep the approval from lapsing.

The Broadband Data Improvement Act of 2008, Public Law 110-385, Stat 4096 § 103(c)(1) directs the Commission to collect information on the type of technology used to provide broadband to consumers, the price of such services, actual transmission speeds, and the reasons for non-adoption of broadband service.

This collection of information was necessary to complete research done for the Broadband Plan on key consumer issues including transparency and actual speeds and performance of broadband service.

This information collection was revised to respond to new requirements that were initially unforeseen. Recent surveys demonstrate a majority of consumers are not able to accurately report the broadband service information approved in the first collection approved on April 30, 2010.

In recent discussions, broadband service providers (ISPs) have also noted that certain technical characteristics of broadband service may vary region to region and such information may not be available from the consumer. ISP Partners have offered to partner with the FCC in the testing and measurement trial by verifying certain consumer information collected by SamKnows and by providing associated data not directly available from the consumer. This information is crucial for good sample selection and analysis of results.

The Commission's Office of Engineering and Technology (OET), the Office of Strategic Planning and Policy Analysis (OSPPA) and the Consumer and Governmental Affairs Bureau (CGB) and other Commission entities will use the information collected under this study to assess what actual broadband speeds and performance consumers are currently receiving from providers. Our purpose is to measure the speed of broadband services provided by ISPs across service packages and geographies, rather than assess the differences in broadband performance received by demographics. This assessment will help the Commission create standards for broadband measurements, assess the validity of ISP performance claims, and inform future steps to increasing transparency and consumer awareness of broadband service.

Federal Communications Commission.
Marlene H. Dortch,
Secretary.

[FR Doc. 2010-25926 Filed 10-14-10; 8:45 am]

BILLING CODE 6712-01-P